DEPARTMENT OF LABOR

Employment and Training Administration

[TA-W-52,693]

CTS Corporation, Elkhart, Indiana; Notice of Termination of Investigation

Pursuant to section 221 of the Trade Act of 1974, as amended, an investigation was initiated on August 27, 2003, in response to a worker petition filed by United Automobile, Aerospace & Agricultural Implement Workers of America, Local 941, on behalf of workers at CTS Corporation, Elkhart, Indiana.

A petitioner has requested that the petition be withdrawn. Consequently, the investigation has been terminated.

Signed at Washington, DC, this 29th day of August, 2003.
Elliott S. Kushner,
Certifying Officer, Division of Trade Adjustment Assistance.

[FR Doc. 03-23701 Filed 9-16-03; 8:45 am]

BILLING CODE 4510-30-P